DEPARTMENT OF THE INTERIOR

National Park Service

[NPS-WASO-NRNHL-DTS#-31293; PPWOCRADI0, PCU00RP14.R50000]

National Register of Historic Places; Notification of Pending Nominations and Related Actions

AGENCY: National Park Service, Interior.

ACTION: Notice.

SUMMARY: The National Park Service is soliciting electronic comments on the significance of properties nominated before December 12, 2020, for listing or related actions in the National Register of Historic Places.

DATES: Comments should be submitted electronically by January 14, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before December 12, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Nevada County

Willow Oak Acres Horse Barn, 2073 US 371 West, Prescott, SG100006043

Washington County

Morrow Farmstead, 16995 Hale Mountain Rd., Morrow, SG100006044

CONNECTICUT

Fairfield County

St. Mark's Episcopal Church, 111 Oenoke Ridge, New Canaan, SG100006054

GEORGIA

Twiggs County

Pines, The, 213 Shannon Dr., Jeffersonville, SG100006053

OHIO

Clark County

Springfield Downtown Historic District, Roughly bounded by Columbia, Fountain, Main, and Limestone Streets, Springfield, SG100006049

Stark County

McKinley Park Apartments, (Apartment Buildings in Ohio Urban Centers, 1870-1970 MPS), 510 High Ave. SW, Canton, MP100006041

OKLAHOMA

Tulsa County

Greenwood Historic District, Bounded by Midland Valley RR North to Pine Street, Frisco RR, 1st St. just off of Archer St., west side of Lansing Street, Cincinnati Ave., beginning at Archer Street extending to Elgin Ave., Tulsa, SG100006059

OREGON

Multnomah County

Montgomery Ward & Company (Boundary Decrease), 2741 NW Vaughn St., Portland, BC100006040

SOUTH CAROLINA

Charleston County

Charleston Naval Hospital, 3600 Rivers Ave., North Charleston, SG100006050

Richland County

Columbia Commercial Historic District (Boundary Increase II), 1545 Sumter St., 1611, 1800, 1801, 1813 Main St., 1209 Blanding St., Columbia, BC100006058

TEXAS

Harris County

Mechanical Laboratory and Power House, 6100 Main St., Houston, SG100006045

Jefferson County

Port Arthur Downtown Historic District, Roughly bounded by West Reverend Doctor Ransom Howard St., Fort Worth Ave., Lakeshore Dr., and Waco St., Port Arthur, SG100006046

Potter County

St. Anthony's Hospital, 200 NW 7th Ave., Amarillo, SG100006047

Additional documentation has been received for the following resources:

IDAHO

Ada County

Jackson, Orville and Floy, House (Additional Documentation), (Tourtellotte and Hummel Architecture TR), 127 South Eagle Rd., Eagle, AD82000213

OREGON

Multnomah County

Alphabet Historic District (Additional Documentation), Roughly bounded by NW Lovejoy St., NW, Marshall St., NW, 17th Ave., W. Burnside St., and NW 24th Ave., Portland, AD00001293

Irvington Historic District (Additional Documentation), Roughly bounded by NE Fremont St., NE 27th Ave., NE Broadway St., NE 7th Ave., Portland, AD10000850

SOUTH CAROLINA

Richland County

Columbia Commercial Historic District (Additional Documentation), Portions of Main, Blanding, Taylor & Sumter Sts., Columbia, AD100000689

Nominations submitted by Federal Preservation Officers:

The State Historic Preservation Officer reviewed the following nomination and responded to the Federal Preservation Officer within 45 days of receipt of the nomination and supports listing the property in the National Register of Historic Places.

MONTANA

Broadwater County

Spokane Hill Airway Beacon, (Sentinels of the Airways: Montana's Airway Beacon System, 1934-1979 MPS), Approximately 5 mi. northwest of Winston, Winston vicinity, MP100006048

Authority: Section 60.13 of 36 CFR part 60.

Dated: December 16, 2020.
Sherry Frear,
Chief, National Register of Historic Places/National Historic Landmarks Program.

[FR Doc. 2020-28843 Filed 12-29-20; 8:45 am]

BILLING CODE 4312-52-P